DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. Surveys of SCHIP Enrollees and Disenrollees for the Congressionally Mandated Evaluation of the State Children's Health Insurance Program—NEW—As part of the Evaluation of the State Children's Health Insurance Program (SCHIP), the Office of the Assistant Secretary for Planning and Evaluation is proposing to conduct a survey about children currently and previously covered by the program. These surreys, to be conducted in ten states, will provide detailed description of the children's characteristics, their movement in and out of the program, access to care, service use and experiences with the program. A supplemental survey about Medicaid children will be conducted in three states. Respondents: individuals or households; Burden Information for SCHIP Survey—Number of Respondents: 18,000; Frequency of Response: one time; Average Burden per Response: .59 hours; Burden for SCHIP Survey: 10,620 hours—Burden Information for Medicaid Survey: Number of Respondents: 5,400; Frequency of Response: one time; Average Burden per Response: .59 hours; Burden for Medicaid Survey: 3,186 hours—Total Burden: 13,806 hours.

Send comments to Cynthia Agens Bauer, OS Reports Clearance Officer, Room 503H, Humphrey Building, 200 Independence Avenue SW., Washington DC, 20201. Written comments should be received within 60 days of this notice.

Dated: August 6, 2001.
Kerry Weems,
Acting Deputy Assistant Secretary, Budget.

[FR Doc. 01-20694 Filed 8-16-01; 8:45 am]

BILLING CODE 4154-05-M